DEPARTMENT OF TRANSPORTATION

Federal Aviation Administration

14 CFR Part 39

[Docket No. FAA-2015-3224; Directorate Identifier 2015-CE-026-AD; Amendment 39-18290; AD 2015-20-11]

RIN 2120-AA64

Airworthiness Directives; Schempp-Hirth Flugzeugbau GmbH Gliders

AGENCY: Federal Aviation Administration (FAA), DOT.

ACTION: Final rule; correction.

SUMMARY: The FAA is correcting an airworthiness directive (AD) that published in the Federal Register. That AD applies to certain Schempp-Hirth Flugzeugbau GmbH Models Duo Discus and Duo Discus T gliders. The Model Duo Discus gliders were incorrectly referenced as powered sailplanes in the Applicability section. This document corrects that error and refers to both models as just gliders as in previous ADs. In all other respects, the original document remains the same; however we are publishing the entire rule in the Federal Register.

DATES: This final rule is effective November 18, 2015.

ADDRESSES: You may examine the AD docket on the Internet at http://www.regulations.gov by searching for and locating Docket No. FAA-2015-3224; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION: Airworthiness Directive 2015-20-11, Amendment 39-18290 (80 FR 61722, October 14, 2015), currently requires inspecting and replacing the airbrake bell crank and the airbrake drive funnels and inspecting the airbrake control system for proper clearance and making necessary adjustments.

As published, the Model Duo Discus gliders were incorrectly referenced as powered sailplanes in the Applicability section. This could cause confusion because the Model Duo Discus does not have an engine. This document corrects that error and refers to both models as just gliders as in previous ADs.

Although no other part of the preamble or regulatory information has been corrected, we are publishing the entire rule in the Federal Register.

The effective date of this AD remains November 18, 2015.

PART 39—AIRWORTHINESS DIRECTIVES

1. The authority citation for part 39 continues to read as follows:

Authority: 49 U.S.C. 106(g), 40113, 44701.

§ 39.13 [Amended]

2. The FAA amends § 39.13 by adding the following new AD:

2015-20-11 Schempp-Hirth Flugzeugbau GmbH: Amendment 39-18290; Docket No. FAA-2015-3224; Directorate Identifier 2015-CE-026-AD.

(a) Effective Date

This airworthiness directive (AD) becomes effective on November 18, 2015.

(b) Affected ADs

None.

(c) Applicability

This AD applies to Schempp-Hirth Flugzeugbau GmbH Model Duo Discus gliders, serial numbers 1 through 639, and Model Duo Discus T gliders, serial numbers 1 through 110 and 112 through 247, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as excessive load on the air brake system. We are issuing this AD to prevent uncontrolled actuation of the air brakes (symmetric or asymmetric), which could result in reduced control.

(f) Actions and Compliance

Unless already done, do the actions in paragraph (f)(1) through (f)(5) of this AD.

(1) Within 40 days after November 18, 2015 (the effective date of this AD) and repetitively thereafter at intervals not to exceed 100 hours time-in-service until the terminating replacement action required in paragraphs (f)(2) and (f)(3) of this AD (as applicable) is done, inspect the airbrake bell crank, the airbrake drive funnels, and the airbrake control system.

(i) Inspect the airbrake bell crank and the airbrake drive funnels for cracks and damage following Action 1 in Schempp-Hirth Flugzeugbau GmbH Technical Note No. 380 -2/396-17/868-22/890-14, Revision 1, issued July 13, 2015 (published as a single document).

(ii) Inspect the airbrake control system for proper clearance following Paragraph 2.d. of Schempp-Hirth Flugzeugbau GmbH Working instruction for Technical Note No. 380-2/396-17/868-22/890-14, Ausgabe (English translation: issue) 1, Datum (English translation: dated) May 11, 2015.

(2) If cracks or damage is found on the airbrake bell cranks or the airbrake drive funnels during any inspection required in paragraph (f)(1) of this AD, before further flight, replace each cracked or damaged part with a reinforced part. Installing a reinforced part terminates the repetitive inspections required in paragraph (f)(1) of this AD for that part.

(i) For replacement of the airbrake bell cranks, follow Picture 2: Reinforced version of airbrake bell crank according to HS 11-50.016, Revision a or later, in Schempp-Hirth Flugzeugbau GmbH Working instruction for Technical Note No. 380-2/396-17/868-22/890-14, Ausgabe (English translation: issue) 1, Datum (English translation: dated) May 11, 2015.

(ii) For replacement of the airbrake drive funnels, follow Picture 5: Airbrake drive funnel in fuselage “Reinforcement of airbrake drive funnel according to drawing S14RB703, Revision a, in Schempp-Hirth Flugzeugbau GmbH Working instruction for Technical Note No. 380-2/396-17/868-22/890-14, Ausgabe (English translation: issue) 1, Datum (English translation: dated) May 11, 2015.

(3) If no cracks or damage were found on the airbrake bell cranks or the airbrake drive funnels during any inspection required in paragraph (f)(1) of this AD, within 12 months after November 18, 2015 (the effective date of this AD), replace each of the airbrake bell cranks and airbrake drive funnels with a reinforced part. These replacements terminate the repetitive inspections required in paragraph (f)(1) of this AD.

(i) For replacement of the airbrake bell cranks, follow Picture 2: Reinforced version of airbrake bell crank according to HS 11-50.016, Revision a or later, in Schempp-Hirth Flugzeugbau GmbH Working instruction for Technical Note No. 380-2/396-17/868-22/890-14, Ausgabe (English translation: issue) 1, Datum (English translation: dated) May 11, 2015.

(ii) For replacement of the airbrake drive funnels, follow Picture 5: Airbrake drive funnel in fuselage, “Reinforcement of airbrake drive funnel according to drawing S14RB703, Revision a,” in Schempp-Hirth Flugzeugbau GmbH Working instruction for Technical Note No. 380-2/396-17/868-22/890-14, Ausgabe (English translation: issue) 1, Datum (English translation: dated) May 11, 2015.

(4) If the airbrake control system is found to not have proper clearance during the inspection required in paragraph (f)(1) of this AD, before further flight, make all necessary corrective adjustments following Paragraph 2.d. of Schempp-Hirth Flugzeugbau GmbH Working instruction for Technical Note No. 380-2/396-17/868-22/890-14, Ausgabe (English translation: issue) 1, Datum (English translation: dated) May 11, 2015.

(5) As of November 18, 2015 (the effective date of this AD), only install an airbrake bell crank or an airbrake drive funnel that corresponds to Picture 2: Reinforced version of airbrake bell crank according to HS 11-50.016, Revision a or later, and Picture 5: Airbrake drive funnel in fuselage, “Reinforcement of airbrake drive funnel according to drawing S14RB703, Revision a,” in Schempp-Hirth Flugzeugbau GmbH Working instruction for Technical Note No. 380-2/396-17/868-22/890-14, Ausgabe (English translation: issue) 1, Datum (English translation: dated) May 11, 2015, as applicable.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any glider to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No. 2015-0139R1, dated July 15, 2015, for related information. You may examine the MCAI on the Internet at http://www.regulations.gov/#!documentDetail;D=FAA-2015-3224-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Schempp-Hirth Flugzeugbau GmbH Technical Note No. 380 -2/396-17/868-22/890-14, Revision 1, issued July 13, 2015 (published as a single document).

(ii) Schempp-Hirth Flugzeugbau GmbH Working instruction for Technical Note No. 380-2/396-17/868-22/890-14, Ausgabe (English translation: issue) 1, Datum (English translation: dated) May 11, 2015.

(3) For Schempp-Hirth Flugzeugbau GmbH service information identified in this AD, contact Schempp-Hirth Flugzeugbau GmbH, Krebenstrasse 25, 73230 Kirchheim/Teck, Germany; telephone: +49 7021 7298-0; fax: +49 7021 7298-199; email: info@schempp-hirth.com; Internet: http://www.schempp-hirth.com.

(4) You may view this service information at the FAA, Small Airplane Directorate, 901 Locust, Kansas City, Missouri 64106. For information on the availability of this material at the FAA, call (816) 329-4148. In addition, you can access this service information on the Internet at http://www.regulations.gov by searching for and locating Docket No. FAA-2015-3224.

(5) You may view this service information that is incorporated by reference at the National Archives and Records Administration (NARA). For information on the availability of this material at NARA, call 202-741-6030, or go to: http://www.archives.gov/federal-register/cfr/ibr-locations.html.

Issued in Kansas City, Missouri, on November 2, 2015.
Melvin Johnson,
Acting Manager, Small Airplane Directorate, Aircraft Certification Service.

[FR Doc. 2015-28339 Filed 11-6-15; 8:45 am]

BILLING CODE 4910-13-P